DEPARTMENT OF JUSTICE

Antitrust Division

Notice Pursuant to the National Cooperative Research and Production Act of 1993—Customer Experience Hub

Notice is hereby given that, on January 3, 2025, pursuant to section 6(a) of the National Cooperative Research and Production Act of 1993, 15 U.S.C. 4301 et seq. (“the Act”), The Customer Experience Hub (“CX Hub”) has filed written notifications simultaneously with the Attorney General and the Federal Trade Commission disclosing changes in its membership. The notifications were filed for the purpose of extending the Act's provisions limiting the recovery of antitrust plaintiffs to actual damages under specified circumstances.

Specifically, Access Pediatric LLC, Gainesville, FL; Advanced Telesensors, Inc., Austin, TX; The Susan G. Komen Breast Cancer Foundation, Inc., Dallas, TX; The Wistar Institute of Anatomy and Biology, Philadelphia, PA; ViVBioTech LLC, Sacramento, CA; Biogenesis, Palo Alto, CA; CARIN Alliance, Washington, DC; CellChorus, Inc., Houston, TX; ELHS Institute, Inc., Palo Alto, CA; Global Coalition on Aging, New York, NY; Handzin, Inc., San Fransisco, CA; Health in her HUE, New York, NY; Landmark Bio PBLLC, Watertown, MA; LastMinute, Inc., Brookline, MA; Netrias LLC, Annapolis, MD; Patientory, Inc., Atlanta, GA; Performance Hypothesis LLC, Atlanta, GA; and SmarTechNexus Foundation, Baltimore, MD have been added as parties to this venture.

No other changes have been made in either the membership or planned activity of the group research project. Membership in this group research project remains open, and the CX Hub intends to file additional written notifications disclosing all changes in membership.

On January 11, 2024, the CX Hub filed its original notification pursuant to section 6(a) of the Act. The Department of Justice published a notice in the Federal Register pursuant to section 6(b) of the Act on April 16, 2024 (89 FR 26929).

The last notification was filed with the Department on October 1, 2024. A notice was published in the Federal Register pursuant to section 6(b) of the Act on December 2, 2024 (89 FR 95237).

Suzanne Morris,
Deputy Director Civil Enforcement Operations, Antitrust Division.

[FR Doc. 2025-02189 Filed 2-3-25; 8:45 am]

BILLING CODE 4410-11-P